DEPARTMENT OF COMMERCE

National Oceanic and Atmospheric Administration

[RTID 0648-XE261]

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day hybrid meeting with both in-person and remote participation to consider actions affecting New England fisheries in the exclusive economic zone (EEZ).

DATES: The meeting will be held on Tuesday, September 24, 2024 through Thursday, September 26, 2024, beginning at 9 a.m. all three days.

ADDRESSES:

Meeting address: The meeting will take place at the Beauport Hotel, 55 Commercial Street, Gloucester, MA 01930; telephone: (978) 282-0008; online at https://www.beauporthotel.com. Join the webinar at https://attendee.gotowebinar.com/register/244255849872817749.

Council address: New England Fishery Management Council, 50 Water Street, Mill 2, Newburyport, MA 01950; telephone (978) 465-0492; www.nefmc.org.

FOR FURTHER INFORMATION CONTACT: Cate O'Keefe, Executive Director, New England Fishery Management Council; telephone: (978) 465-0492, ext. 113.

SUPPLEMENTARY INFORMATION:

Agenda

Tuesday, September 24, 2024

After brief announcements, a representative from the Greater Atlantic Regional Fisheries Office (GARFO) will swear in new and reappointed Council members. Then, the Council will hold its annual election of officers before receiving reports on recent activities from its Chair and Executive Director, the GARFO Regional Administrator's representative, the Northeast Fisheries Science Center (NEFSC) Director, the NOAA Office of General Counsel, the Mid-Atlantic Fishery Management Council liaison, and representatives from the Atlantic States Marine Fisheries Commission (ASMFC), the U.S. Coast Guard, NOAA's Office of Law Enforcement, and the NMFS Highly Migratory Species Advisory Panel. Next, the Council will receive three 2024 monitoring reports, which will be plan development team (PDT) overviews of the 2023 skate, small-mesh multispecies (whiting), and monkfish fisheries respectively. Following the monkfish monitoring report, the Council will receive a presentation on improvements to the Monkfish Research Set-Aside (RSA) Program as recommended by 2023 Monkfish RSA Working Group. The Council then will engage in a discussion and determine how it intends to address future monitoring and/or fishery performance reports.

Following the lunch break, members of the public will have the opportunity to speak during an open comment period on issues that relate to Council business but are not included on the published agenda for this meeting. The Council asks the public to limit remarks to 3-5 minutes. These comments will be received both in person and through the webinar. A guide for how to publicly comment through the webinar is available on the Council website at https://s3.amazonaws.com/nefmc.org/NEFMC-meeting-remote-participation_generic.pdf. Next, the chair of a subpanel of the Council's Scientific and Statistical Committee (SSC) will present the subpanel's review of a potential new method for determining scallop dredge survey sampling design and strata. Following this presentation, the Scallop Committee will provide a progress report on Framework Adjustment 39 to the Atlantic Sea Scallop Fishery Management Plan, including a preliminary overview of the 2024 scallop survey season. Framework 39 is being developed to set 2025 scallop fishing year specifications and 2026 default specifications, revise flatfish accountability measures (AMs), and provide measures to allow Northern Gulf of Maine (NGOM) permit holders fishing on directed scallop trips in the NGOM Management Area to possess scallops south of 42° 20′. The Council also will receive an update on 2024 scallop work priorities. Lastly, the Northeast Trawl Advisory Panel (NTAP) will report on NTAP's full panel meeting in July and an August working group meeting covering industry-based trawl surveys, including contingency plans for the NOAA Ship Henry B. Bigelow, as well as restrictor rope and offshore wind issues. Following the adjournment of official business, the Council will host a public outreach session to foster open lines of communication among Council members, staff, industry, and all meeting attendees. This event will be held in the same hotel as the meeting itself—the Beauport Hotel in Gloucester, MA.

Wednesday, September 25, 2024

The Council will begin the second day of its meeting with a report from its Risk Policy Working Group. The Council is scheduled to approve a revised Risk Policy statement and concept at this meeting. The Northeast Fisheries Science Center then will provide an overview of the June 2024 Management Track Stock Assessments for Atlantic herring, four Atlantic cod stock units, Georges Bank yellowtail flounder, black sea bass, surfclams, butterfish, and tilefish.

Following the lunch break, the Scientific and Statistical Committee (SSC) chair will provide the SSC's overfishing limit (OFL) and acceptable biological catch (ABC) recommendations for Atlantic herring, the four new Atlantic cod stock units, and Georges Bank yellowtail flounder. The report also will cover the SSC's review of methods for apportioning the biomass of Georges Bank cod and Georges Bank haddock into the Eastern Georges Bank Management Area. The Groundfish Committee report will follow with four items. The Council first will take final action on Amendment 25, which was developed to incorporate the four new cod stock units into the Northeast Multispecies (Groundfish) Fishery Management Plan. Then, the Council will receive a progress report on Framework Adjustment 69, which is an action to set specifications for several groundfish stocks for fishing years 2025-2027, U.S./Canada total allowable catches (TACs) for shared resources on Georges Bank for 2025-2026, incorporate revisions to flatfish sub-annual catch limits (sub-ACLs) and accountability measures (AMs), and address other measures. The Council next will receive updates on its Atlantic Cod Management Transition Plan and 2024 groundfish work priorities before adjourning for the day.

Thursday, June 26, 2024

The Council will lead off the third day of its meeting with the Atlantic Herring Committee report. The Council will either take final action on 2025-2027 specifications for the Atlantic herring fishery or provide direction on the development of additional measures, which may include the potential initiation of a framework adjustment or consideration of in-season adjustments. A report from the Council's On-Demand Fishing Gear Conflict Working Group will follow. This report contains three components: (1) a GARFO update on the status of Atlantic Large Whale Take Reduction Plan modifications; (2) a NEFSC summary of on-demand fishing gear trials; and (3) Council review and discussion of the On-Demand Fishing Gear Conflict Working Group's input on its terms of reference, as well as a gear marking/gear interaction white paper and possible regulatory and management measures.

Following the lunch break, the Council will discuss ecosystem, climate, and Inflation Reduction Act (IRA) initiatives, which will cover: (1) a report on the establishment of the Council's new Climate and Ecosystem Steering Committee and a decision on the status of the Council's existing Ecosystem-Based Fishery Management Committee (EBFM) and EBFM Plan Development Team; (2) a report on the August 2024 Climate, Ecosystems, and Fisheries Initiative coordination meeting, which was hosted by the East Coast Climate Coordination Group; and (3) an update on the status of the Council's IRA-funded projects. The Council then will engage in its initial discussion on 2025 Council Priorities before closing out the meeting with other business.

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Executive Director Cate O'Keefe (see ADDRESSES) at least 5 days prior to the meeting date.

Authority: 16 U.S.C. 1801 et seq.

Dated: September 4, 2024.
Rey Israel Marquez,
Acting Deputy Director, Office of Sustainable Fisheries, National Marine Fisheries Service.

[FR Doc. 2024-20274 Filed 9-6-24; 8:45 am]

BILLING CODE 3510-22-P